NUCLEAR WASTE TECHNICAL REVIEW BOARD

Panel Meeting: October 13-14, 2004—Salt Lake City, UT: The U.S. Nuclear Waste Technical Review Board's Panel on the Waste Management System Will Meet To Discuss Issues Related to the U.S. Department of Energy's Planning for the Possible Transportation of Spent Nuclear Fuel and High-Level Radioactive Waste to a Proposed Repository at Yucca Mountain in Nevada

Pursuant to its authority under section 5051 of Public Law 100-203, Nuclear Waste Policy Amendments Act of 1987, the U.S. Nuclear Waste Technical Review Board's Panel on the Waste Management System will meet in Salt Lake City, Utah on Wednesday, October, and Thursday, October 14, 2004. The panel will discuss issues elated to planning for the potential transportation of spent nuclear fuel and high-level radioactive waste to a proposed repository at Yucca Mountain in Nevada. The meeting will be open to the public, and opportunities for public comment will be provided. The Board is charged by Congress with reviewing the technical and scientific validity of activities undertaken by the U.S. Department of Energy (DOE) as stipulated in the Nuclear Waste Policy Amendments Act.

The panel meeting will be held at the Sheraton City Center Hotel; 150 West 500 South; Salt Lake City, Utah 84101; (tel.) 801-401-2000; (fax) 801-534-3450. The panel is scheduled to meet from 8 a.m. until 5:30 p.m. on October 13 and from 8 a.m. until approximately 12 noon on October 14. Meeting times and agenda details will be confirmed approximately one week before the meeting dates. Copies of the agendas can be requested by telephone or obtained from the Board's Web site at http://www.nwtrb.gov.

The purpose of the meeting is to discuss the DOE's transportation planning and the experience of regional groups involved in transporting spent nuclear fuel and high-level radioactive waste (Wednesday) and to review the experiences of Private Fuel Storage, LLC, in planning for transportation of spent nuclear fuel to its proposed facility in Utah (Thursday). On Thursday, the panel also will review issues of risk perception in the transportation planning process.

Transcripts of the meetings will be available on the Board's Web site, by e-mail, on computer disk and on a library-loan basis in paper format from Davonya Barnes of the Board's staff, beginning on November 29, 2004.

A block of rooms has been reserved at the Sheraton City Center Hotel for meeting participants. When making a reservation, please state that you are attending the Nuclear Waste Technical Review Board meeting. Reservations should be made by September 20, 2004 to receive the meeting rate.

For more information, contact the NWTRB: Karyn Severson, External Affairs; 2300 Clarendon Boulevard, Suite 1300; Arlington, VA 22201-3367; (tel.) 703-235-4473; (fax) 703-235-4495.

Dated: September 8, 2004
William D. Barnard,
Executive Director, Nuclear Waste Technical Review Board.

[FR Doc. 04-21178 Filed 9-20-04; 8:45 am]

BILLING CODE 6820-AM-M